DEPARTMENT OF COMMERCE

International Trade Administration

[A-588-837, A-428-821]

Large Newspaper Printing Presses from Japan and Germany: Postponement of Preliminary Results of Antidumping Duty Administrative Reviews

AGENCY: Import Administration, International Trade Administration, Department of Commerce.

ACTION: Extension of time limits for preliminary results of antidumping duty administrative reviews.

SUMMARY: The Department of Commerce is extending the time limit for the preliminary results of the antidumping duty administrative reviews of the antidumping duty orders on large newspaper printing presses from Japan and Germany. The review involving Japan covers the period September 1, 1998, through August 31, 1999. The reviews involving Germany cover the periods September 1, 1997, through August 31, 1998; and September 1, 1998 through August 31, 1999.

EFFECTIVE DATE: March 13, 2000.

FOR FURTHER INFORMATION CONTACT: Sunkyu Kim, at (202) 482-2613 for Japan; and Katherine Johnson, at (202) 482-4929 for Germany, Import Administration, International Trade Administration, U.S. Department of Commerce, 14th Street and Constitution Avenue, N.W., Washington, D.C. 20230.

Postponement of Preliminary Results of Reviews: The Department of Commerce (the Department) initiated reviews of the antidumping duty orders on large newspaper printing presses (LNPPs) from Japan and Germany on November 4, 1999 (64 FR 60161). The current deadline for the preliminary results in these reviews is June 1, 2000. In accordance with section 751(a)(3)(A) of the Tariff Act of 1930, as amended, we determine that it is not practicable to complete the administrative reviews of LNPPs from Japan and Germany within the original time frame. See February 28, 2000, Memorandum from Sunkyu Kim, Acting Program Manager, and Irene Darzenta Tzafolias, Program Manager, to Richard W. Moreland, Deputy Assistant Secretary for Import Administration. Thus, the Department is extending the time limit for completion of the preliminary results until no later than September 29, 2000, which is 365 days after the last day of the anniversary month of the order.

We intend to issue the final results of these administrative reviews within 120 days after the publication of the preliminary results.

Dated: March 6, 2000.
Richard W. Moreland,
Deputy Assistant Secretary for Import Administration.

[FR Doc. 00-6090 Filed 3-10-00; 8:45 am]

BILLING CODE 3510-DS-P